FEDERAL HOUSING FINANCE BOARD

[No. 2001-N-7]

Federal Home Loan Bank Members Selected for Community Support Review

AGENCY: Federal Housing Finance Board.

ACTION: Notice.

SUMMARY: The Federal Housing Finance Board (Finance Board) is announcing the Federal Home Loan Bank (Bank) members it has selected for the 2002-03 second quarter review cycle under the Finance Board's community support requirement regulation. This notice also prescribes the deadline by which Bank members selected for review must submit Community Support Statements to the Finance Board.

DATES: Bank members selected for the 2002-03 second quarter review cycle under the Finance Board's community support requirement regulation must submit completed Community Support Statements to the Finance Board on or before August 30, 2002.

ADDRESSES: Bank members selected for the 2002-03 second quarter review cycle under the Finance Board's community support requirement regulation must submit completed Community Support Statements to the Finance Board either by regular mail at the Office of Policy, Research and Analysis, Program Assistance Division, Federal Housing Finance Board, 1777 F Street, NW., Washington, DC 20006, or by electronic mail at fitzgerald@fhfb.gov.

FOR FURTHER INFORMATION CONTACT: Emma J. Fitzgerald, Program Analyst, Office of Policy, Research and Analysis, Program Assistance Division, by telephone at 202/408-2874, by electronic mail at fitzgerald@fhfb.gov, or by regular mail at the Federal Housing Finance Board, 1777 F Street, NW., Washington, DC 20006. A telecommunications device for deaf persons (TDD) is available at 202/408-2579.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901, et seq., and record of lending to first-time homebuyers. See 12 U.S.C. 1430(g)(2). Pursuant to the requirements of section 10(g) of the Bank Act, the Finance Board has promulgated a community support requirement regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the August 30, 2002 deadline prescribed in this notice. 12 CFR 944.2(b)(1)(ii) and (c). On or before July 29, 2002, each Bank will notify the members in its district that have been selected for the 2002-03 second quarter community support review cycle that they must complete and submit to the Finance Board by the deadline a Community Support Statement. 12 CFR 944.2(b)(2)(i). The member's Bank will provide a blank Community Support Statement Form, which also is available on the Finance Board's web site: www.fhfb.gov. Upon request, the member's Bank also will provide assistance in completing the Community Support Statement.

The Finance Board has selected the following members for the 2002-03 second quarter community support review cycle:

Federal Home Loan Bank of Boston—District 1
Superior Savings of New England, National Association | Branford | Connecticut
Enfield Federal Savings and Loan Association | Enfield | Connecticut
Essex Savings Bank | Essex | Connecticut
First City Bank | New Britain | Connecticut
Citizens Bank of Connecticut | New London | Connecticut
Auburn Savings & Loan | Auburn | Maine
First National Bank of Bar Harbor | Bar Harbor | Maine
First FS&LA of Bath | Bath | Maine
Aroostook County FS&LA | Caribou | Maine
Kennebunk Savings Bank | Kennebunk | Maine
Community Credit Union | Lewiston | Maine
Portland Regional Federal Credit Union | Portland | Maine
Skowhegan Savings Bank | Skowhegan | Maine
Kennebec Federal Savings and Loan Association | Waterville | Maine
North Middlesex Savings Bank | Ayer | Massachusetts
Boston Private Bank & Trust Company | Boston | Massachusetts
First Trade Union Bank, F.S.B | Boston | Massachusetts
First Federal Savings Bank of Boston | Boston | Massachusetts
Investors Bank & Trust Company | Boston | Massachusetts
Peoples Federal Savings Bank | Brighton | Massachusetts
Cambridge Savings Bank | Cambridge | Massachusetts
East Cambridge Savings Bank | Cambridge | Massachusetts
Dedham Institution for Savings | Dedham | Massachusetts
Eagle Bank | Everett | Massachusetts
Citizens-Union Savings Bank | Fall River | Massachusetts
Foxboro Federal Savings | Foxboro | Massachusetts
Georgetown Savings Bank | Georgetown | Massachusetts
Hyde Park Savings Bank | Hyde Park | Massachusetts
First Essex Bank | Lawrence | Massachusetts
Marblehead Savings Bank | Marblehead | Massachusetts
Medford Co-operative Bank | Medford | Massachusetts
Plymouth Savings Bank | Middleboro | Massachusetts
Millbury Savings Bank | Millbury | Massachusetts
Monson Savings Bank | Monson | Massachusetts
Lawrence Savings Bank | North Andover | Massachusetts
Warren Five Cents Savings Bank | Peabody | Massachusetts
Saugus Bank, A Cooperative Bank | Saugus | Massachusetts
Scituate Federal Savings Bank | Scituate | Massachusetts
Middlesex Federal Savings, F.A. | Somerville | Massachusetts
Spencer Savings Bank | Spencer | Massachusetts
Hampden Savings Bank | Springfield | Massachusetts
Bristol County Savings Bank | Taunton | Massachusetts
Federal Savings Bank | Dover | New Hampshire
Franklin Savings Bank | Franklin | New Hampshire
Meredith Village Savings Bank | Meredith | New Hampshire
Salem Co-operative Bank | Salem | New Hampshire
First Brandon National Bank | Brandon | Vermont
Randolph National Bank | Randolph | Vermont
Federal Home Loan Bank of New York—District 2
Liberty Bank | Avenel | New Jersey
Pamrapo Savings Bank, S.L.A. | Bayonne | New Jersey
Farmers & Mechanics Bank | Burlington | New Jersey
Freehold Savings & Loan Association | Freehold | New Jersey
Spencer Savings Bank, SLA | Garfield | New Jersey
GSL Savings Bank | Guttenberg | New Jersey
Oritani Savings Bank | Hackensack | New Jersey
Investors Savings Bank | Millburn | New Jersey
Millington Savings Bank | Millington | New Jersey
Dollar Savings Bank | Newark | New Jersey
Ocean City Home Bank | Ocean City | New Jersey
Amboy National Bank | Old Bridge | New Jersey
OceanFirst Bank | Tom Rivers | New Jersey
First Savings Bank | Woodbridge | New Jersey
Brooklyn Federal Savings Bank | Brooklyn | New York
Canisteo Savings & Loan Association | Canisteo | New York
Elmira Savings & Loan, F.A | Elmira | New York
The Upstate National Bank | Fayetteville | New York
The National Bank of Geneva | Geneva | New York
Glens Falls National Bank and Trust Company | Glens Falls | New York
Maple City Savings Bank, FSB | Hornell | New York
Sunnyside FS&LA of Irvington | Irvington | New York
The Lyons National Bank | Lyons | New York
Maspeth Federal Savings and Loan Association | Maspeth | New York
Massena Savings & Loan | Massena | New York
Cross County Federal Savings Bank | Middle Village | New York
Provident Bank | Montebello | New York
Carver Federal Savings | New York | New York
The Berkshire Bank | New York | New York
Ogdensburg Federal Savings and Loan Association | Ogdensburg | New York
Wilber National Bank | Oneonta | New York
Union State Bank | Orangeburg | New York
First Tier Bank & Trust | Salamanca | New York
Saratoga National Bank & Trust Company | Saratoga Springs | New York
The National Bank of Stamford | Stamford | New York
Federal Home Loan Bank of Pittsburgh—District 3
Delaware National Bank | Georgetown | Delaware
Artisans' Bank | Wilmington | Delaware
Laurel Savings Bank | Allison Park | Pennsylvania
Investment Savings Bank | Altoona | Pennsylvania
Reliance Savings Bank | Altoona | Pennsylvania
Peoples Home Savings Bank | Beaver Falls | Pennsylvania
Keystone Savings Bank | Bethlehem | Pennsylvania
Columbia County Farmers National Bank | Bloomsburg | Pennsylvania
The Bryn Mawr Trust Company | Bryn Mawr | Pennsylvania
Community Bank, National Association | Carmichaels | Pennsylvania
Charleroi Federal Savings Bank | Charleroi | Pennsylvania
Citizens National Bank of Evans City | Evans City | Pennsylvania
Armstrong County Building and Loan Association | Ford City | Pennsylvania
Greenville Savings Bank | Greenville | Pennsylvania
Westmoreland FS&LA of Latrobe | Latrobe | Pennsylvania
Mifflin County Savings Bank | Lewistown | Pennsylvania
First Citizens National Bank | Mansfield | Pennsylvania
First National Bank of Mifflintown | Mifflintown | Pennsylvania
First Federal Savings Bank | Monessan | Pennsylvania
Parkvale Bank | Monroeville | Pennsylvania
Community State Bank of Orbisonia | Orbisonia | Pennsylvania
Beneficial Savings Bank | Philadelphia | Pennsylvania
Firstrust Bank | Philadelphia | Pennsylvania
Prudential Savings Bank, PaSA | Philadelphia | Pennsylvania
NorthSide Bank | Pittsburgh | Pennsylvania
West View Savings Bank | Pittsburgh | Pennsylvania
Liberty Savings Bank, F.S.B | Pottsville | Pennsylvania
Elk County Savings & Loan Association | Ridgway | Pennsylvania
Sewickley Savings Bank | Sewickley | Pennsylvania
Keystone State Savings Bank | Sharpsburg | Pennsylvania
The First National Bank of Slippery Rock | Slippery Rock | Pennsylvania
Union National Bank and Trust Company | Souderton | Pennsylvania
East Stroudsburg Savings Association | Stroudsburg | Pennsylvania
Washington Federal Savings Bank | Washington | Pennsylvania
First FS&LA of Greene County | Waynesburg | Pennsylvania
Citizens & Northern Bank | Wellsboro | Pennsylvania
First Century Bank, N.A | Bluefield | West Virginia
Huntington Federal Savings Bank | Huntington | West Virginia
Doolin Security Savings Bank FSB | New Martinsville | West Virginia
United National Bank | Parkersburg | West Virginia
First FS&LA of Ravenswood | Ravenswood | West Virginia
First Federal Savings Bank | Sistersville | West Virginia
The Williamstown National Bank | Williamstown | West Virginia
Federal Home Loan Bank of Atlanta— District 4
Brantley Bank and Trust Company | Brantley | Alabama
Bank of Carbon Hill | Carbon Hill | Alabama
Heritage Bank | Decatur | Alabama
Robertson Banking Company | Demopolis | Alabama
The Citizens Bank | Greensboro | Alabama
Security Federal Savings Bank | Jasper | Alabama
Gulf Federal Bank, a FSB | Mobile | Alabama
Loyal American Life Insurance Company | Mobile | Alabama
The Citizens Bank | Moulton | Alabama
Phenix-Girard Bank | Phenix City | Alabama
The Bank of Vernon | Vernon | Alabama
Bank of Wedowee | Wedowee | Alabama
Bank of Belle Glade | Belle Glade | Florida
Community Bank of Manatee | Bradenton | Florida
Commercebank, N.A | Coral Gables | Florida
Peoples State Bank of Groveland | Groveland | Florida
Florida Bank, N.A | Jacksonville | Florida
First State Bank of Florida Keys | Key West | Florida
International Finance Bank | Miami | Florida
Charlotte State Bank | Port Charlotte | Florida
First American Bank of Walton County | Santa Rosa Beach | Florida
Bank of St. Augustine | St. Augustine | Florida
Central Bank of Tampa | Tampa | Florida
Wauchula State Bank | Wauchula | Florida
Cornerstone Bank | Atlanta | Georgia
ebank | Atlanta | Georgia
Bank of Early | Blakely | Georgia
Colony Bank Southeast | Broxton | Georgia
The Claxton Bank | Claxton | Georgia
United Community Bank Rabun County | Clayton | Georgia
Central Bank and Trust | Cordele | Georgia
Chestatee State Bank | Dawsonville | Georgia
Bank of Eastman | Eastman | Georgia
Gilmer County Bank | Ellijay | Georgia
Capital Bank | Fort Oglethorpe | Georgia
Bank of Hiawassee | Hiawassee | Georgia
Farmers State Bank | Lincolnton | Georgia
Peoples Bank | Lyons | Georgia
Mount Vernon Bank | Mt. Vernon | Georgia
The Citizens Bank | Nashville | Georgia
Colony Bank of Wilcox | Rochelle | Georgia
Greater Rome Bank | Rome | Georgia
Georgia Central Bank | Social Circle | Georgia
Citizens Security Bank | Tifton | Georgia
Community First Bank | Baltimore | Maryland
Mercantile Safe Deposit and Trust Company | Baltimore | Maryland
Easton Bank and Trust Company | Easton | Maryland
Jarrettsville Federal S&L Association | Jarrettsville | Maryland
Maryland Bank and Trust Company | Lexington Park | Maryland
First National Bank of North East | North East | Maryland
Colombo Bank | Rockville | Maryland
The East Carolina Bank | Engelhard | North Carolina
Catawba Valley Bank | Hickory | North Carolina
First Bank | Troy | North Carolina
Sandhills Bank | Bethune | South Carolina
The Peoples Bank | Iva | South Carolina
Carolina Community Bank, N.A | Latta | South Carolina
The Palmetto Bank | Laurens | South Carolina
The Citizens Bank | OlantaS | outh Carolina
First State Bank | Danville | Virginia
Powell Valley National Bank | Jonesville | Virginia
The Bank of Charlotte County | Phenix | Virginia
Valley Bank | Roanoke | Virginia
Federal Home Loan Bank of Cincinnati—District 5
Bank of Edmonson County
Brownsville | Kentucky
United Citizens Bank | Campbellsburg | Kentucky
Citizens Bank & Trust Company | Campbellsville | Kentucky
Farmers and Traders Bank | Campton | Kentucky
Carrollton Federal Savings & Loan Association | Carrollton | Kentucky
First National Bank | Central City | Kentucky
Clinton Bank | Clinton | Kentucky
Peoples Bank of Northern Kentucky | Crestview Hills | Kentucky
Farmers National Bank | Cynthiana | Kentucky
Central Kentucky Federal Savings Bank | Danville | Kentucky
United Kentucky Bank of Pendleton County | Falmouth | Kentucky
State Bank and Trust Company | Harrodsburg | Kentucky
First Financial Bank | Harrodsburg | Kentucky
First Federal Savings and Loan Association | Hazard | Kentucky
Citizens National Bank | Lebanon | Kentucky
Home Federal Bank, FSB | Middlesboro | Kentucky
Peoples Bank Mt. Washington | Mt. Washington | Kentucky
Family Bank, FSB | Paintsville | Kentucky
Farmers Bank and Trust Company, Inc. | Princeton | Kentucky
First Bank and Trust Company | Princeton | Kentucky
Liberty National Bank | Ada | Ohio
The Peoples Savings and Loan Company | Bucyrus | Ohio
First Safety Bank | Cincinnati | Ohio
The Clifton Heights Loan and Building Company | Cincinnati | Ohio
The Savings Bank | Circleville | Ohio
The Peoples Bank Company | Coldwater | Ohio
First City Bank | Columbus | Ohio
The Cortland Savings and Banking Company | Cortland | Ohio
Ohio Heritage Bank | Coshocton | Ohio
Heartland Bank | Croton | Ohio
Valley Savings Bank | Cuyahoga Falls | Ohio
First Federal Bank of the Midwest | Defiance | Ohio
Fidelity Federal Savings & Loan Association of Delaware | Delaware | Ohio
The Home Building and Loan Company | Greenfield | Ohio
Greenville Federal Savings & Loan Association | Greenville | Ohio
First Federal Savings Bank | Ironton | Ohio
Lawrence Federal Savings Bank | Ironton | Ohio
Liberty Federal Savings Bank | Ironton | Ohio
Ohio River Bank | Ironton | Ohio
Home Savings and Loan Company of Kenton, Ohio | Kenton | Ohio
Kingston National Bank | Kingston | Ohio
The Citizens Bank of Logan | Logan | Ohio
Mechanics Savings Bank | Mansfield | Ohio
Peoples Bank, National Association | Marietta | Ohio
The Middlefield Banking Company | Middlefield | Ohio
Nelsonville Home and Savings Association | Nelsonville | Ohio
First FS&LA of Newark | Newark | Ohio
The National Bank of Oak Harbor | Oak Harbor | Ohio
Valley Central Savings Bank | Reading | Ohio
The Citizens Banking Company | Sandusky | Ohio
Peoples Federal Savings & Loan Association | Sidney | Ohio
Commodore Bank | Somerset | Ohio
Monroe Federal Savings and Loan Association | Tipp City | Ohio
Van Wert Federal Savings Bank | Van Wert | Ohio
Home Savings Bank of Wapakoneta | Wapakoneta | Ohio
The Waterford Commercial & Savings Bank | Waterford | Ohio
Adams County Building & Loan Company | West Union | Ohio
Bank of Bartlett | Bartlett | Tennessee
Bank of Bolivar | Bolivar | Tennessee
Farmers & Merchants Bank | Clarksville | Tennessee
Farmers and Merchants Bank | Dyer | Tennessee
First Citizens National Bank | Dyersburg | Tennessee
Elizabethton Federal Savings Bank | Elizabethton | Tennessee
Progressive Savings Bank | Jamestown | Tennessee
Home Federal Bank of Tennessee | Knoxville | Tennessee
First Central Bank | Lenoir City | Tennessee
American Savings Bank | Livingston | Tennessee
Volunteer Federal Savings & Loan Association | Madisonville | Tennessee
Jefferson Federal Savings & Loan Association | Morristown | Tennessee
TNBank | Oak Ridge | Tennessee
Union Planters Bank of N.W. Tennessee | Paris | Tennessee
Citizens Community Bank | Winchester | Tennessee
Federal Home Loan Bank of Indianapolis—District 6
First Federal Savings Bank of Angola | Angola | Indiana
Peoples Federal Savings Bank of Dekalb County | Auburn | Indiana
Peoples Federal Savings Bank | Aurora | Indiana
Farmers and Mechanics FS&LA | Bloomfield | Indiana
The First State Bank | Bourbon | Indiana
English State Bank | English | Indiana
Old National Bank in Evansville | Evansville | Indiana
Home Loan Bank, FSB | Fort Wayne | Indiana
The Farmers Bank | Frankfort | Indiana
Newton County Loan & Savings, FSB | Goodland | Indiana
First Federal Savings & Loan | Greensburg | Indiana
Lake FS&LA of Hammond | Hammond | Indiana
HFS Bank, F.S.B. | Hobart | Indiana
Security Federal Savings Bank | Logansport | Indiana
Michigan City Savings & Loan Association | Michigan City | Indiana
The First National Bank of Monterey | Monterey | Indiana
First Merchants Bank, N.A. | Muncie | Indiana
Mutual Federal Savings Bank | Muncie | Indiana
American Savings, FSB | Munster | Indiana
Community Bank | Noblesville | Indiana
First National Bank of Odon | Odon | Indiana
Lincoln Federal Savings Bank | Plainfield | Indiana
First Parke State Bank | Rockville | Indiana
Scottsburg Building & Loan Association | Scottsburg | Indiana
Home Federal Savings Bank | Seymour | Indiana
Owen Community Bank, SB | Spencer | Indiana
First Farmers State Bank | Sullivan | Indiana
Peoples Community Bank | Tell City | Indiana
Terre Haute First National Bank | Terre Haute | Indiana
First Federal Savings Bank of Wabash | Wabash | Indiana
First FS&LA of Washington | Washington | Indiana
Home Building Savings Bank, FSB | Washington | Indiana
Peoples National Bank & Trust Company | Washington | Indiana
Bank of Wolcott | Wolcott | Indiana
First Federal of Northern Michigan | Alpena | Michigan
Bank of Ann Arbor | Ann Arbor | Michigan
Farmers State Bank Breckenridge | Breckenridge | Michigan
Eaton Federal Savings Bank | Charlotte | Michigan
Huron Community Bank | East Tawas | Michigan
The Hastings City Bank | Hastings | Michigan
Bay Port State Bank | Pigeon | Michigan
Kalamazoo County State Bank | Schoolcraft | Michigan
Franklin Bank, National Association | Southfield | Michigan
First National Bank of St. Ignace | St. Ignace | Michigan
Northwestern Savings Bank and Trust | Traverse City | Michigan
Federal Home Loan Bank of Chicago—District 7
West Pointe Bank and Trust Company | Belleville | Illinois
The Belvidere National Bank and Trust Company | Belvidere | Illinois
Citizens Savings Bank | Bloomington | Illinois
American Enterprise Bank | Buffalo Grove | Illinois
Farmers State Bank of Camp Point | Camp Point | Illinois
Cornerstone Bank & Trust, N.A. | Carrollton | Illinois
Central Illinois Bank | Champaign | Illinois
First Federal Savings Bank of Champaign-Urbana | Champaign | Illinois
Charleston Federal Savings & Loan Association | Charleston | Illinois
Broadway Bank | Chicago | Illinois
Universal Federal Savings Bank | Chicago | Illinois
Central FS&LA of Chicago | Chicago | Illinois
Columbus Savings Bank | Chicago | Illinois
Fidelity Federal Savings Bank | Chicago | Illinois
Liberty Bank for Savings | Chicago | Illinois
Lincoln Park Savings Bank | Chicago | Illinois
Mutual FS&LA | Chicago | Illinois
1st Security Federal Savings Bank | Chicago | Illinois
Collinsville Building and Loan Association | Collinsville | Illinois
Home Federal Savings & Loan Association | Collinsville | Illinois
Hickory Point Bank & Trust, fsb | Decatur | Illinois
CoVest Banc, National Association | Des Plaines | Illinois
First Federal Savings & Loan Association | Edwardsville | Illinois
Forreston State Bank | Forreston | Illinois
Central Bank Fulton | Fulton | Illinois
Glenview State Bank | Glenview | Illinois
Guardian Savings Bank FSB | Granite City | Illinois
First National Bank of Grant Park | Grant Park | Illinois
The Granville National Bank | Granville | Illinois
The Bradford National Bank of Greenville | Greenville | Illinois
The Havana National Bank | Havana | Illinois
Herrin Security Bank | Herrin | Illinois
CIB Bank | Hillside | Illinois
South End Savings, s.b | Homewood | Illinois
1st National Bank of Jonesboro | Jonesboro | Illinois
Eureka Savings Bank | La Salle | Illinois
First State Bank of Western Illinois | LaHarpe | Illinois
First National Bank of Illinois | Lansing | Illinois
Lisle Savings Bank | Lisle | Illinois
First National Bank of Litchfield, IL | Litchfield | Illinois
West Suburban Bank | Lombard | Illinois
First Security Bank | Macknaw | Illinois
First National Bank of Manhattan | Manhattan | Illinois
Milford Building & Loan Association | Milford | Illinois
Nashville Savings Bank | Nashville | Illinois
Northview Bank & Trust | Northfield | Illinois
Illini State Bank | Oglesby | Illinois
Peoples Bank & Trust | Pana | Illinois
The Poplar Grove State Bank | Poplar Grove | Illinois
Citizens First National Bank | Princeton | Illinois
First Robinson Savings Bank, N.A | Robinson | Illinois
Alpine Bank of Illinois | Rockford | Illinois
First FS&LA of Shelbyville, IL | Shelbyville | Illinois
The First National Bank | Vandalia | Illinois
International Bank of Amherst | Amherst | Wisconsin
First National Bank of Bangor | Bangor | Wisconsin
Bank of Brodhead | Brodhead | Wisconsin
Bank of Deerfield | Deerfield | Wisconsin
Meridian Capital Bank, N.A | Edgar | Wisconsin
Fox Valley Savings | Fond du Lac | Wisconsin
National Exchange Bank & Trust | Fond du Lac | Wisconsin
First Northern Savings Bank | Green Bay | Wisconsin
Ixonia State Bank | Ixonia | Wisconsin
First Federal Savings Bank La Crosse-Madison | La Crosse | Wisconsin
Ladysmith Federal Savings & Loan | Ladysmith | Wisconsin
Markesan State Bank | Markesan | Wisconsin
Fidelity National Bank | Medford | Wisconsin
Merrill Federal Savings and Loan Association | Merrill | Wisconsin
Continental Savings Bank, S.A | Milwaukee | Wisconsin
Guaranty Bank, S.S.B | Milwaukee | Wisconsin
Bank of Elmwood | Racine | Wisconsin
Spencer State Bank | Spencer | Wisconsin
First Bank | Tomah | Wisconsin
Farmers State Bank of Waupaca | Waupaca | Wisconsin
Paper City Savings Association | Wisconsin Rapids | Wisconsin
Federal Home Loan Bank of Des Moines—District 8
Citizens Savings Bank | Anamosa | Iowa
Community State Bank | Ankeny | Iowa
Ashton State Bank | Ashton | Iowa
Atkins Savings Bank & Trust | Atkins | Iowa
Midwest FS&LA of Eastern Iowa | Burlington | Iowa
Iowa Trust and Savings Bank | Centerville | Iowa
First Security Bank and Trust | Charles City | Iowa
Page County Federal Savings Association | Clarinda | Iowa
First Federal Savings Bank of Creston, F.S.B | Creston | Iowa
Principal Bank | Des Moines | Iowa
State FS&LA of Des Moines | Des Moines | Iowa
Fidelity Bank & Trust | Dyersville | Iowa
Community Savings Bank | Edgewood | Iowa
First American Bank | Fort Dodge | Iowa
Hampton State Bank | Hampton | Iowa
Independence Federal Bank for Savings | Independence | Iowa
Hawkeye State Bank | Iowa City | Iowa
First Community Bank, FSB | Keokuk | Iowa
Keokuk Savings Bank & Trust Company | Keokuk | Iowa
Keystone Savings Bank | Keystone | Iowa
Iowa State Savings Bank | Knoxville | Iowa
Cedar Valley Bank & Trust | LaPorte City | Iowa
Farmers & Merchants Savings Bank | Lone Tree | Iowa
United Community Bank | Milford | Iowa
New Albin Savings Bank | New Albin | Iowa
City State Bank | Norwalk | Iowa
Northwestern State Bank | Orange City | Iowa
Clarke County State Bank | Osceola | Iowa
Bank Iowa | Oskaloosa | Iowa
First Trust & Savings Bank | Oxford | Iowa
Citizens State Bank | Pocahontas | Iowa
Citizens Bank | Sac City | Iowa
American State Bank | Sioux Center | Iowa
Solon State Bank | Solon | Iowa
Northwest Federal Savings Bank | Spencer | Iowa
First Federal Savings Bank of the Midwest | Storm Lake | Iowa
Randall-Story State Bank | Story City | Iowa
Waukee State Bank | Waukee | Iowa
West Liberty State Bank | West Liberty | Iowa
Viking Savings Association, F.A | Alexandria | Minnesota
Northern National Bank | Baxter | Minnesota
First State Bank of Bigfork | Bigfork | Minnesota
Brainerd Savings & Loan | Brainerd | Minnesota
The Oakley National Bank of Buffalo | Buffalo | Minnesota
State Bank in Eden Valley | Eden Valley | Minnesota
Bank Midwest Minnesota Iowa, N.A | Fairmont | Minnesota
The State Bank of Faribault | Faribault | Minnesota
First Minnesota Bank, N.A | Glencoe | Minnesota
The First National Bank of Menahga | Menahga | Minnesota
TCF National Bank | Minneapolis | Minnesota
The First National Bank of Osakis | Osakis | Minnesota
First National Bank of Plainview | Plainview | Minnesota
Signal Bank South, NA | Red Wing | Minnesota
21st Century Bank | Rogers | Minnesota
Citizens Independent Bank | St. Louis Park | Minnesota
The First National Bank of St. Peter | St. Peter | Minnesota
Tracy State Bank | Tracy | Minnesota
Queen City Federal Savings Bank | Virginia | Minnesota
Missouri Federal Savings Bank | Cameron | Missouri
Southwest Missouri Bank | Carthage | Missouri
North American Savings Bank, FSB | Grandview | Missouri
MCM Savings Bank, FSB | Hannibal | Missouri
First Federal Bank, F.S.B | Kansas City | Missouri
Lacelde County Bank | Lebanon | Missouri
Clay County Savings & Loan Association | Liberty | Missouri
Liberty Savings Bank, F.S.B | Liberty | Missouri
First Home Savings Bank | Mountain Grove | Missouri
Home S&LA of Norborne, F.A | Norborne | Missouri
Southern Missouri Bank & Trust | Poplar Bluff | Missouri
Central Federal Savings and Loan Association | Rolla | Missouri
Montgomery First National Bank | Sikeston | Missouri
Guaranty Federal Savings Bank | Springfield | Missouri
Midwest FS&LA of St. Joseph | St. Joseph | Missouri
Bremen Bank and Trust Company | St. Louis | Missouri
First Bank | St. Louis | Missouri
Lindell Bank & Trust Company | St. Louis | Missouri
Southern Commercial Bank | St. Louis | Missouri
BNC National Bank | Bismarck | North Dakota
First Southwest Bank | Bismarck | North Dakota
Ramsey National Bank & Trust Company | Devils Lake | North Dakota
American State Bank and Trust of Dickinson | Dickinson | North Dakota
Security State Bank | Dunseith | North Dakota
First National Bank North Dakota | Grand Forks | North Dakota
National Bank of Harvey | Harvey | North Dakota
Walhalla State Bank | Walhalla | North Dakota
Dacotah Bank | Aberdeen | South Dakota
First Savings | BankBeresford | South Dakota
First Federal Bank | Beresford | South Dakota
First National Bank in Brookings | Brookings | South Dakota
Bryant State Bank | Bryant | South Dakota
First Western Federal Savings Bank | Rapid City | South Dakota
Federal Home Loan Bank of Dallas—District 9
First National Bank of Sharp County | Ash Flat | Arkansas
Arkansas National Bank | Bentonville | Arkansas
Heartland Community Bank | Camden | Arkansas
Corning Savings and Loan Association | Corning | Arkansas
Arkansas Diamond Bank | Glenwood | Arkansas
First Arkansas Bank and Trust | Jacksonville | Arkansas
Arkansas Bankers' Bank | Little Rock | Arkansas
Diamond State Bank | Murfreesboro | Arkansas
First National Bank | Paragould | Arkansas
Peoples Bank | Paragould | Arkansas
First Community Bank | Pocahontas | Arkansas
Bank of Rogers | Rogers | Arkansas
Bank of Star City | Star City | Arkansas
Bank of Waldron | Waldron | Arkansas
First National Bank USA | Boutte | Louisiana
Citizens Progressive Bank | Columbia | Louisiana
Beauregard Federal Savings Bank | DeRidder | Louisiana
Home Bank | Lafayette | Louisiana
First FS&LA of Lake Charles, Inc | Lake Charles | Louisiana
Bank of New Orleans | Metairie | Louisiana
Minden Building & Loan Association | Minden | Louisiana
Algiers Homestead Association | New Orleans | Louisiana
Dryades Savings Bank, FSB | New Orleans | Louisiana
Fifth District Savings and Loan Association | New Orleans | Louisiana
Union Savings and Loan Association | New Orleans | Louisiana
Plaquemine Bank & Trust Company | Plaquemine | Louisiana
Rayne Building and Loan Association | Rayne | Louisiana
Citizens Bank and Trust Company | Springhill | Louisiana
First National Bank of Lucedale | Lucedale | Mississippi
First National Bank of Pontotoc | Pontotoc | Mississippi
North Central Bank For Savings | Winona | Mississippi
Alamogordo Federal Savings & Loan Association | Alamogordo | New Mexico
Charter Bank | Albuquerque | New Mexico
First National Bank | Artesia | New Mexico
The First National Bank of New Mexico | Clayton | New Mexico
First National Bank | Las Vegas | New Mexico
First Federal Bank | Roswell | New Mexico
Alamo Bank of Texas | Alamo | Texas
Firstbank Southwest National Association | Amarillo | Texas
First Savings Bank, FSB | Arlington | Texas
Affiliated Bank F.S.B | Bedford | Texas
Brenham National Bank | Brenham | Texas
Texas Bank | Brownwood | Texas
The First State Bank | Celina | Texas
The First National Bank of Chillico | Chillico | Texas
First Bank of West Texas | Coahoma | Texas
The First State Bank | Columbus | Texas
First Bank of Conroe, N.A | Conroe | Texas
First Commerce Bank | Corpus Christi | Texas
Citizens National Bank | Crockett | Texas
Cuero State Bank s.s.b | Cuero | Texas
Dalhart Federal Savings and Loan Association | Dalhart | Texas
Preston National Bank | Dallas | Texas
First State Bank of Texas | Denton | Texas
First Prosperity Bank | El Campo | Texas
Citizens National Bank | Fort Worth | Texas
Colonial Savings, F.A | Fort Worth | Texas
Guaranty National Bank | Gainesville | Texas
National BankGatesville | Texas
Planters & Merchants State Bank | Hearne | Texas
Houston Community Bank, | N.A.Houston | Texas
Justin State Bank | Justin | Texas
City National Bank | Kilgore | Texas
Farmers & Merchants State Bank | Krum | Texas
Fayette Savings Bank, ssb | La Grange | Texas
National Bank and Trust | La Grange | Texas
Commerce Bank | Laredo | Texas
Falcon International Bank | Laredo | Texas
East Texas Professional Credit Union | Longview | Texas
Longview Bank and Trust | Longview | Texas
The First State Bank of Louise | Louise | Texas
First Bank & Trust Company | Lubbock | Texas
Lubbock National Bank | Lubbock | Texas
Gladewater National Bank | Mesquite | Texas
First National Bank of Mount Vernon | Mount Vernon | Texas
First National Bank in Munday | Munday | Texas
Morris County National Bank | Naples | Texas
First Federal Community Bank | Paris | Texas
Peoples National Bank | Paris | Texas
Gulf Coast Educators Federal Credit Union | Pasadena | Texas
PointBank, N.A. | Pilot Point | Texas
Pilgrim Bank | Pittsburg | Texas
Wood County National Bank | Quitman | Texas
Robert Lee State Bank | Robert Lee | Texas
Intercontinental National Bank | San Antonio | Texas
Balcones Bank, S.S.B. | San Marcos | Texas
Citizens State Bank | Sealy | Texas
Southern National Bank of Texas | Sugar Land | Texas
The American National Bank of Texas | Terrell | Texas
Citizens First Bank | Tyler | Texas
Hill Bank & Trust Company | Weimar | Texas
American National Bank | Wichita Falls | Texas
Wilson State Bank | Wilson | Texas
Federal Home Loan Bank of Topeka—District 10
San Luis Valley Federal Bank | Alamosa | Colorado
Collegiate Peaks Bank | Buena Vista | Colorado
Pikes Peak National Bank | Colorado Springs | Colorado
Community Banks of Colorado | Cripple Creek | Colorado
Vectra Bank Colorado | Denver | Colorado
Rocky Mountain Bank and Trust | Florence | Colorado
First National Bank, Fort Collins | Fort Collins | Colorado
First State Bank of Fort Collins | Fort Collins | Colorado
Gunnison Savings and Loan Association | Gunnison | Colorado
American Bank | Loveland | Colorado
Rio Grande Savings and Loan Association | Monte Vista | Colorado
Montrose Bank | Montrose | Colorado
The First National Bank of Ordway | Ordway | Colorado
Paonia State Bank | Paonia | Colorado
Community Banks of Southern Colorado | Rocky Ford | Colorado
Century Savings and Loan Association | Trinidad | Colorado
Park State Bank & Trust | Woodland Park | Colorado
Prairie State Bank | Augusta | Kansas
First National Bank in Cimarron | Cimarron | Kansas
Girard National Bank | Girard | Kansas
Farmers Bank & Trust, N.A | Great Bend | Kansas
Golden Belt Bank, FSA | Hays | Kansas
Central National Bank | Junction City | Kansas
Argentine Federal Savings | Kansas City | Kansas
Citizens Bank of Kansas, N.A | Kingman | Kansas
University National Bank of Lawrence | Lawrence | Kansas
Mutual Savings Association | Leavenworth | Kansas
The Citizens State Bank | Liberal | Kansas
The Citizens State Bank | Moundridge | Kansas
Midland National Bank | Newton | Kansas
Peoples Bank | Overland Park | Kansas
Bank of Blue Valley | Overland Park | Kansas
Peabody State Bank | Peabody | Kansas
The Bank of Perry | Perry | Kansas
The Plains State Bank | Plains | Kansas
The Peoples Bank | Pratt | Kansas
First Bank Kansas | Salina | Kansas
Security Savings Bank | Salina | Kansas
The Stockton National Bank | Stockton | Kansas
First National Bank of Syracuse | Syracuse | Kansas
The Bank of Tescott | Tescott | Kansas
Capitol Federal Savings Bank | Topeka | Kansas
Silver Lake Bank | Topeka | Kansas
Southwest Bank, N.A | Ulysses | Kansas
Kendall State Bank | Valley Falls | Kansas
Bank of Commerce & Trust Company | Wellington | Kansas
Garden Plain State Bank | Wichita | Kansas
Commerce Bank, N.A | Wichita | Kansas
Western Heritage Credit Union | Alliance | Nebraska
Farmers & Merchants National Bank | Ashland | Nebraska
Beatrice National Bank & Trust | Beatrice | Nebraska
Clarkson Bank | Clarkson | Nebraska
Nebraska Energy Federal Credit Union | Columbus | Nebraska
American Interstate Bank | Elkhorn | Nebraska
Genoa National Bank | Genoa | Nebraska
United Nebraska Bank | Grand Island | Nebraska
TierOne Bank | Lincoln | Nebraska
Platte Valley National Bank | Morrill | Nebraska
Otoe County Bank & Trust Company | Nebraska City | Nebraska
Nehawka Bank | Nehawka | Nebraska
Enterprise Bank, N.A | Omaha | Nebraska
Platte Valley National Bank | Scottsbluff | Nebraska
First National Bank | Sidney | Nebraska
The Wymore State Bank | Wymore | Nebraska
Anadarko Bank & Trust Company | Anadarko | Oklahoma
Community Bank | Bristow | Oklahoma
McCurtain County National Bank | Broken Bow | Oklahoma
Oklahoma Bank & Trust Company | Clinton | Oklahoma
American Bank of Oklahoma | Collinsville | Oklahoma
Citizens Bank of Edmond | Edmond | Oklahoma
First National Bank & Trust | Elk City | Oklahoma
Bank of the Panhandle | Guymon | Oklahoma
Legacy Bank | Hinton | Oklahoma
The First State Bank | Keyes | Oklahoma
City National Bank & Trust Company | Lawton | Oklahoma
First National Bank in Marlow | Marlow | Oklahoma
Community National Bank of Okarche | Okarche | Oklahoma
First National Bank in Okeene | Okeene | Oklahoma
BancFirst | Oklahoma City | Oklahoma
Local Oklahoma Bank, NA | Oklahoma City | Oklahoma
National Bank of Commerce | Oklahoma City | Oklahoma
The Bankers Bank | Oklahoma City | Oklahoma
The Okmulgee Savings and Loan Association | Okmulgee | Oklahoma
Citizens Bank & Trust Company | Okmulgee | Oklahoma
Bank of the Lakes, N.A | Owasso | Oklahoma
First State Bank of Porter | Porter | Oklahoma
Farmers State Bank | Quinton | Oklahoma
First National Bank & Trust Company | Shawnee | Oklahoma
Valley National Bank | Tulsa | Oklahoma
Triad Bank, N.A | Tulsa | Oklahoma
The First National Bank & Trust Company | Vinita | Oklahoma
Federal Home Loan Bank of San Francisco—District 11
Borrego Springs Bank | Borrego Springs | California
Fullerton Community Bank | Fullerton | California
Broadway Federal Bank, F.S.B | Inglewood | California
Western Financial Bank | Irvine | California
Silvergate Bank | La Mesa | California
Family Savings Bank, F.S.B | Los Angeles | California
Monterey County Bank | Monterey | California
Standard Savings Bank, FSB | Monterey Park | California
Trust Bank | Monterey Park | California
Metropolitan Bank | Oakland | California
Community Bank | Pasadena | California
IndyMac Bank, F.S.B | Pasadena | California
Bank of Petaluma | Petaluma | California
El Dorado Savings Bank | Placerville | California
Life Bank | Riverside | California
California Federal Bank | San Francisco | California
Sincere FSB | San Francisco | California
EastWest Bank | San Marino | California
Bay View Bank, NA | San Mateo | California
First FS&LA of San Rafael | San Rafael | California
First Federal Bank of California | Santa Monica | California
National Bank of the Redwoods | Santa Rosa | California
Sunwest Bank | Tustin | California
Desert Community Bank | Victorville | California
Citibank, FSB | New York | New York
Washington Mutual Bank, FA | Seattle | Washington
Federal Home Loan Bank of Seattle—District 12
First National Bank of Anchorage | Anchorage | Alaska
Mt. McKinley Mutual Savings Bank | Fairbanks | Alaska
Bank of Guam | Hagatna | Guam
American Savings Bank, F.S.B | Honolulu | Hawaii
Mountain West Bank | Coeur D'Alene | Idaho
First Security Bank | Bozeman | Montana
Glacier Bank of Eureka | Eureka | Montana
Heritage Bank | Great Falls | Montana
Ravalli County Bank | Hamilton | Montana
American Federal Savings Bank | Helena | Montana
Glacier Bank | Kalispell | Montana
Big Sky Western Bank | Kalispell | Montana
Montana First National Bank | Kalispell | Montana
Manhattan State Bank | Manhattan | Montana
Stockman Bank of Montana | Miles City | Montana
Bank of Astoria | Astoria | Oregon
Security Bank | Coos Bay | Oregon
The Bank of Salem | Salem | Oregon
Columbia River Bank | The Dalles | Oregon
Liberty Bank | Salt Lake City | Utah
Wells Fargo Northwest, N.A | Salt Lake City | Utah
Cascade Bank | Everett | Washington
Raymond Federal Savings Bank | Raymond | Washington
Evergreen Bank | Seattle | Washington
Pacific Northwest Bank | Seattle | Washington
Washington Federal Savings | Seattle | Washington
Sterling Savings Bank | Spokane | Washington
Buffalo Federal Savings Bank | Buffalo | Wyoming
Hilltop National Bank | Casper | Wyoming
Big Horn Federal Savings Bank | Greybull | Wyoming

II. Public Comments

To encourage the submission of public comments on the community support performance of Bank members, on or before July 29, 2002, each Bank will notify its Advisory Council and nonprofit housing developers, community groups, and other interested parties in its district of the members selected for community support review in the 2002-03 second quarter review cycle. 12 CFR 944.2(b)(2)(ii). In reviewing a member for community support compliance, the Finance Board will consider any public comments it has received concerning the member. 12 CFR 944.2(d). To ensure consideration by the Finance Board, comments concerning the community support performance of members selected for the 2002-03 second quarter review cycle must be delivered to the Finance Board on or before the August 30, 2002 deadline for submission of Community Support Statements.

Dated: July 3, 2002.
By the Federal Housing Finance Board.
James L. Bothwell,
Managing Director.

[FR Doc. 02-17217 Filed 7-12-02; 8:45 am]

BILLING CODE 6725-01-P